DEPARTMENT OF HEALTH AND HUMAN SERVICES

National Institutes of Health

National Institute of Neurological Disorders and Stroke; Amended Notice of Meeting

Notice is hereby given of a change in the meeting of the National Institute of Neurological Disorders and Stroke Special Emphasis Panel, November 17, 2023, 10:00 a.m. to 04:00 p.m., National Institutes of Health, Neuroscience Center, 6001 Executive Boulevard, Rockville, MD 20852 which was published in the Federal Register on November 3, 2023, 88 FR 77102.

This notice is being amended to change this one-day meeting from November 17, 2023, to November 27, 2023. The meeting time remains the same. The meeting is closed to the public.

Dated: November 13, 2023.
David W. Freeman,
Supervisory Program Analyst, Office of Federal Advisory Committee Policy.

[FR Doc. 2023-25404 Filed 11-16-23; 8:45 am]

BILLING CODE 4140-01-P